DEPARTMENT OF ENERGY

Federal Energy Regulatory Commission

Notice of Intent To File for New License

January 21, 2000.

a. Type of filing: Notice of Intent to File Application for New License.

b. Project No.: 1413.

c. Date Filed: October 1, 1999.

d. Applicants: Fall River Rural Electric Cooperative, Inc.

e. Name of Project: Ponds Lodge Hydroelectric Project.

f. Location: On the Buffalo River, a tributary to the Henry's Fork of the Snake River, in Fremont County, Idaho.

g. Filed Pursuant to: Section 15 of the Federal Power Act, 18 CFR 16.6 of the Commission's regulations.

h. Contact: Dee M. Reynolds, General Manager, Fall River Rural Electric Cooperative, Inc., 714 Main Street, P.O. 830, Ashton, Idaho 83420, (208) 652-7431.

i. Expiration date of original license: October 31, 2004.

j. The project consists of: (1) a 12-foot-high, 142-foot-long rock-fill dam; (2) a short penstock; (3) a powerhouse containing a turbine generator unit with an installed capacity of 250 kilowatts; (4) a short tailrace; (5) a 12.5 kV, 3,500-foot-long underground transmission line; and (6) appurtenant facilities.

k. Pursuant to 18 CFR 16.7, information on the project is available contacting John Gourley at Pacific Gas and Electric Company, 245 Market Street, Room 1137, San Francisco, CA 94105, (415) 972-5772.

l. FERC contact: Hector M. Perez, (202) 219-2843.

m. Locations of the filing: A copy of the filing is available for inspection and reproduction at the Commission's Public Reference Room, located at 888 First Street, N.E., Room A, Washington, D.C. 20426, or by calling (202) 208-1371. This filing may be viewed on http://www.ferc.fed.us/online/rims.htm (call (202) 208-2222 for assistance). A copy is also available for inspection and reproduction at the address in item h above.

n. Pursuant to 18 CFR 16.9(b)(1) each application for a new license and any competing license applications must be filed with the Commission at least 24 months prior to the expiration of the existing license. All applications for license for this project must be filed by October 31, 2002.

David P. Boergers,
Secretary.

[FR Doc. 00-1945 Filed 1-26-00; 8:45 am]

BILLING CODE 6717-01-M